Memorandum of September 13, 2024

Delegation of Certain Sanctions-Related Authorities Under Public Law 118-50

Memorandum for the Secretary of State[,] the Secretary of the Treasury[,] the Secretary of Defense[,] the Attorney General[, and] the Secretary of Commerce

By the authority vested in me as President by the Constitution and the laws of the United States of America, including section 301 of title 3, United States Code, I hereby order as follows:

Section 1. Stop Harboring Iranian Petroleum Act. (a) I hereby delegate to the Secretary of the Treasury, in consultation with the Secretary of State, the functions and authorities vested in the President by sections 3(a), 3(c)(1), and 3(e) of the Stop Harboring Iranian Petroleum Act (Division J of Public Law 118-50) (the “SHIP Act”).

(b) I hereby delegate to the Secretary of the Treasury the functions and authorities vested in the President by section 3(c)(2) of the SHIP Act.

(c) I hereby delegate to the Secretary of State the functions and authorities vested in the President by sections 3(h) and 3(i) of the SHIP Act.

Sec. 2. Fight and Combat Rampant Iranian Missile Exports Act. (a) I hereby delegate to the Secretary of State, in consultation with the Secretary of the Treasury, the functions and authorities vested in the President by sections 5(a)(1), 5(a)(2), 5(a)(3), and 5(a)(4) of the Fight and Combat Rampant Iranian Missile Exports Act (Division K of Public Law 118-50) (the “Fight CRIME Act”).

(b) I hereby delegate to the Secretary of the Treasury, in consultation with the Secretary of State, the functions and authorities vested in the President by sections 5(a)(5), 5(a)(6), 5(e), and 5(f) of the Fight CRIME Act.

(c) I hereby delegate to the Secretary of the Treasury the functions and authorities vested in the President by section 5(b)(1) of the Fight CRIME Act.

(d) I hereby delegate to the Secretary of State the functions and authorities vested in the President by sections 5(d), 5(h), and 6(c) of the Fight CRIME Act.

Sec. 3. Mahsa Amini Human Rights and Security Accountability Act. (a) I hereby delegate to the Secretary of the Treasury, in consultation with the Secretary of State:

(i) the functions and authorities vested in the President by sections 2(c)(1)(A) and 2(c)(1)(B) of the Mahsa Amini Human Rights and Security Accountability Act (Division L of Public Law 118-50) (the “MAHSA Act”), with respect to sanctions listed in sections 2(c)(2)(A), 2(c)(2)(B), 2(c)(2)(C), 2(c)(2)(D), and 2(c)(2)(E) of the MAHSA Act; and

(ii) the functions and authorities vested in the President by section 2(c)(1)(C) of the MAHSA Act.

(b) I hereby delegate to the Secretary of State, in consultation with the Secretary of the Treasury, the functions and authorities vested in the President by sections 2(c)(1)(A) and 2(c)(1)(B) of the MAHSA Act, with respect to sanctions listed in sections 2(c)(2)(C) and 2(c)(2)(F) of the MAHSA Act.

(c) I hereby delegate to the Secretary of State, in consultation with the Secretary of the Treasury, the functions and authorities vested in the President by section 2(d)(5)(A) of the MAHSA Act, and to the Secretary of the Treasury, in consultation with the Secretary of State, the functions and authorities vested in the President by sections 2(d)(5)(B), 2(d)(5)(C), and 2(d)(5)(D) of the MAHSA Act.

Sec. 4. Hamas and Other Palestinian Terrorist Groups International Financing Prevention Act. (a) I hereby delegate to the Secretary of State and the Secretary of the Treasury the functions and authorities vested in the President by section 3(a) of the Hamas and Other Palestinian Terrorist Groups International Financing Prevention Act (Division M of Public Law 118-50) (the “Terrorist Groups International Financing Prevention Act”).

(b) I hereby delegate to the Secretary of the Treasury the functions and authorities vested in the President by section 3(c) of the Terrorist Groups International Financing Prevention Act.

(c) I hereby delegate to the Secretary of State the functions and authorities vested in the President by sections 3(f), 4(e), and 6 of the Terrorist Groups International Financing Prevention Act.

(d) I hereby delegate to the Secretary of State, in consultation with the Secretary of the Treasury and the heads of other relevant executive departments and agencies as the Secretary of State deems necessary, the functions and authorities vested in the President by sections 4(a) and 4(c)(1) of the Terrorist Groups International Financing Prevention Act.

(e) I hereby delegate to the Secretary of State and the Secretary of Commerce the functions and authorities vested in the President by section 4(c)(3) of the Terrorist Groups International Financing Prevention Act for which they are responsible under the Arms Export Control Act and the Export Control Reform Act, respectively.

(f) I hereby delegate to the Secretary of State, the Secretary of the Treasury, and the Secretary of Commerce, commensurate with their respective areas of responsibility and in consultation with the heads of other relevant executive departments and agencies as appropriate, the functions and authorities vested in the President by section 4(f)(2) of the Terrorist Groups International Financing Prevention Act.

(g) I hereby delegate to the Secretary of State, in consultation with the Secretary of Defense, the functions and authorities vested in the President by section 4(g) of the Terrorist Groups International Financing Prevention Act.

(h) I hereby delegate to the Secretary of the Treasury, in consultation with the Secretary of State, the functions and authorities vested in the President by sections 3(e), 4(f)(1), and 5 of the Terrorist Groups International Financing Prevention Act.

Sec. 5. No Technology for Terror Act. In exercising the functions and authorities described in section 2(d) of the No Technology for Terror Act (Division N of Public Law 118-50), I hereby direct the Secretary of Commerce to consult with the Secretary of State and the Secretary of the Treasury.

Sec. 6. Strengthening Tools to Counter the Use of Human Shields Act. (a) I hereby delegate to the Secretary of the Treasury, in consultation with the Secretary of State and the Attorney General, the functions and authorities vested in the President by section 5(a) of the Strengthening Tools to Counter the Use of Human Shields Act (Division O of Public Law 118-50) (the “Countering Use of Human Shields Act”).

(b) I hereby delegate to the Secretary of the Treasury and the Secretary of State, in consultation with the Attorney General, the functions and authorities vested in the President by sections 6(a) and 6(e)(1) of the Countering Use of Human Shields Act.

(c) I hereby delegate to the Secretary of State the functions and authorities vested in the President by section 6(d) of the Countering Use of Human Shields Act.

Sec. 7. Illicit Captagon Trafficking Suppression Act of 2023. (a) I hereby delegate to the Secretary of the Treasury, in consultation with the Secretary of State, the functions and authorities vested in the President by sections 4(a), 4(b)(1), 4(e), 4(f), and 5 of the Illicit Captagon Trafficking Suppression Act of 2023 (Division P of Public Law 118-50) (the “Captagon Suppression Act”).

(b) I hereby delegate to the Secretary of State the functions and authorities vested in the President by section 4(d)(1) of the Captagon Suppression Act.

(c) I hereby delegate to the Secretary of State, in consultation with the Secretary of the Treasury, the functions and authorities vested in the President by section 4(d)(2) of the Captagon Suppression Act.

Sec. 8. Holding Iranian Leaders Accountable Act of 2024. (a) I hereby delegate to the Secretary of the Treasury, in consultation with the Secretary of State, the functions and authorities vested in the President by section 3(a) of the Holding Iranian Leaders Accountable Act of 2024 (Division R of Public Law 118-50) (the “Holding Iranian Leaders Accountable Act”).

(b) I hereby delegate to the Secretary of State the functions and authorities vested in the President by section 3(a)(3) of the Holding Iranian Leaders Accountable Act.

Sec. 9. The Secretary of State is authorized and directed to publish this memorandum in the Federal Register.

THE WHITE HOUSE,

Washington, September 13, 2024

[FR Doc. 2024-21946

Filed 9-23-24; 8:45 am]

Billing code 4710-10-P